DEPARTMENT OF COMMERCE

International Trade Administration

[A-489-501]

Welded Carbon Steel Standard Pipe and Tube Products From Turkey: Amended Final Results of Antidumping Duty Administrative Review; 2014-2015

AGENCY: Enforcement and Compliance, International Trade Administration, Department of Commerce.

SUMMARY: The Department of Commerce (the Department) is amending its final results of the administrative review of the antidumping duty order on welded carbon steel standard pipe and tube products (welded pipe and tube) from Turkey for the period May 1, 2014, through April 30, 2015, to correct ministerial errors. The amended final weighted-average dumping margins for the reviewed firms are listed below in the section entitled, “Amended Final Results.”

DATES: Effective February 17, 2017.

FOR FURTHER INFORMATION CONTACT: Michael J. Heaney or Scott Hoefke, AD/CVD Operations, Office VI, Enforcement and Compliance, International Trade Administration, U.S. Department of Commerce, 1401 Constitution Avenue NW., Washington, DC 20230; telephone: (202) 482-4475 or (202) 482-4947, respectively.

SUPPLEMENTARY INFORMATION:

Background

On December 20, 2016, the Department published the final results of the 2014-2015 administrative review in the Federal Register.¹ On December 27, 2016, JMC Steel Group (JMC) filed a timely allegation that the Department made four ministerial errors in the Final Results and requested, pursuant to 19 CFR 351.224, that the Department correct the alleged ministerial errors. We received rebuttal comments from Borusan Istikbal Ticaret T.A.S. and Borusan Mannesmann Boru Sanayi ve Ticaret A.S. (collectively, Borusan) and Toscelik Profil ve Sac Endustrisi A.S. and Tosyali Dis Ticaret A.S. (collectively, Toscelik) on January 3, 2017.

¹ See Welded Carbon Steel Standard Pipe and Tube Products from Turkey: Final Results of Antidumping Duty Administrative Review, and Final Determination of No Shipments; 2014-2015, 81 FR 92785 (December 20, 2016) (Final Results) and accompanying Memorandum to Paul Piquado, Assistant Secretary for Enforcement and Compliance, “Issues and Decision Memorandum for the Final Results of the Antidumping Duty Administrative Review: Welded Carbon Steel Standard Pipe and Tube Products from Turkey; 2014-2015,” dated December 12, 2016 (Issues and Decision Memorandum).

Scope of the Order

The merchandise subject to the order is welded pipe and tube. The welded pipe and tube subject to the order is currently classifiable under subheading 7306.30.1000, 7306.30.5025, 7306.30.5032, 7306.30.5040, 7306.30.5055, 7306.30.5085, and 7306.30.5090 of the Harmonized Tariff Schedule of the United States (HTSUS). The HTSUS subheadings are provided for convenience and customs purposes only. The written description is dispositive.²

² A full written description of the scope of the order is contained in the memorandum to Gary Taverman, Associate Deputy Assistant Secretary for Antidumping and Countervailing Duty Operations, “Antidumping Administrative Review of Welded Carbon Steel Standard Pipe and Tube Products from Turkey; 2014-2015: Ministerial Error Memorandum,” (Ministerial Errors Memorandum), dated concurrently with this notice and incorporated herein by reference.

Amended Final Results

Section 751(h) of the Tariff Act of 1930, as amended (the Act), defines “ministerial error” as including “errors in addition, subtraction, or other arithmetic function, clerical errors resulting from inaccurate copying, duplication, or the like, and any other type of unintentional error which the administering authority considers ministerial.” After analyzing all parties' comments, we have determined, in accordance with section 751(h) of the Act and 19 CFR 351.224(f), that certain ministerial errors were made in the Final Results. For a detailed discussion of these ministerial errors, as well as the Department's analysis of these errors, see Ministerial Errors Memorandum.

In accordance with section 751(h) of the Act and 19 CFR 351.224(e), we are amending the Final Results of this administrative review of welded pipe and tube from Turkey. The rate for the companies not selected for individual examination is equal to the simple average of Borusan's dumping margin and Toscelik's dumping margin.³ The dumping margins for the period of review for these amended final results are as follows:

³ We calculated a simple average, because the record does not contain usable publicly ranged data for both respondents.

⁴ This rate also applies to Borusan Istikbal Ticaret T.A.S. As explained in the Welded Carbon Steel Standard Pipe and Tube Products from Turkey: Preliminary Results of Antidumping Duty Administrative Review, and Partial Rescission of Review; 2014-2015, 81 FR 38131 (June 13, 2015) (Preliminary Results), the Department treats Borusan Mannesmann Boru Sanayi ve Ticaret A.S. and Borusan Istikbal Ticaret T.A.S. as the same legal entity. See Preliminary Results, and accompanying Preliminary Decision Memorandum at 1-2, n.3; unchanged in Final Results.

⁵ Also includes Tosyali Dis Ticaret A.S. As explained in the Preliminary Results, the Department treats Toscelik Profil ve Sac Endustrisi A.S. and Tosyali Dis Ticaret A.S. as the same legal entity. See Preliminary Results, and accompanying Preliminary Decision Memorandum at 2, n.3; unchanged in Final Results.

Producer or exporter | Dumping margin (percent)
Borusan Mannesmann Boru Sanayi ve Ticaret A.S.⁴ | 0.50
Toscelik Profil ve Sac Endustrisi A.S.⁵ | 3.40
Borusan Birlesik Boru Fabrikalari San ve Tic | 1.95
Borusan Gemlik Boru Tesisleri A.S. | 1.95
Borusan Ihracat Ithalat ve Dagitim A.S. | 1.95
Borusan Ithicat ve Dagitim A.S. | 1.95
Tubeco Pipe and Steel Corporation | 1.95

Disclosure

We intend to disclose the calculations performed for these amended final results of review within five days of the date of publication of this notice in the Federal Register, in accordance with 19 CFR 351.224(b).

Assessment

The Department shall determine, and CBP shall assess, antidumping duties on all appropriate entries covered by this review pursuant to section 751(a)(2)(C) of the Act and 19 CFR 351.212(b).

For both Borusan and Toscelik, because their weighted-average dumping margin is not zero or de minimis (i.e., less than 0.5 percent), the Department has calculated importer-specific antidumping duty assessment rates. We calculated importer-specific ad valorem antidumping duty assessment rates by aggregating the total amount of dumping calculated for the examined sales of each importer and dividing each of these amounts by the total entered value associated with those sales. We will instruct CBP to assess antidumping duties on all appropriate entries covered by this review where an importer-specific assessment rate is not zero or de minimis. Pursuant to 19 CFR 351.106(c)(2), we will instruct CBP to liquidate without regard to antidumping duties any entries for which the importer-specific assessment rate is zero or de minimis.

For the companies which were not selected for individual review, we will instruct CBP to apply the rate assigned to them in these amended final results of this review to all entries of subject merchandise produced and/or exported by these companies.

We intend to issue instructions to CBP 15 days after publication of the amended final results of this review.

Cash Deposit Requirements

The following cash deposit requirements will be effective for all shipments of subject merchandise entered, or withdrawn from warehouse, for consumption on or after the publication date of the final results of this administrative review, as provided by section 751(a)(2) of the Act: (1) The cash deposit rates will be equal to the weighted-average dumping margins established in the final results of this review; (2) for previously reviewed or investigated companies not participating in this review, the cash deposit rate will continue to be the company-specific rate published for the most recently completed segment of this proceeding in which the company was reviewed; (3) if the exporter is not a firm covered in this review, a previous review, or the original less-than-fair-value (LTFV) investigation, but the manufacturer is, the cash deposit rate will be the rate established for the most recently completed segment of this proceeding for the manufacturer of subject merchandise; and (4) the cash deposit rate for all other manufacturers or exporters will continue to be 14.74 percent, the all-others rate established in the LTFV investigation.⁶ These deposit requirements, when imposed, shall remain in effect until further notice.

⁶ See Antidumping Duty Order; Welded Carbon Steel Standard Pipe and Tube Products from Turkey, 51 FR 17784 (May 15, 1986).

Notification to Importers

This notice serves as a final reminder to importers of their responsibility under 19 CFR 351.402(f)(2) to file a certificate regarding the reimbursement of antidumping duties prior to liquidation of the relevant entries during this review period. Failure to comply with this requirement could result in the Secretary's presumption that reimbursement of antidumping duties occurred and the subsequent assessment of double antidumping duties.

Administrative Protective Orders

This notice also serves as a reminder to parties subject to administrative protective order (APO) of their responsibility concerning the destruction of proprietary information disclosed under APO in accordance with 19 CFR 351.305(a)(3). Timely written notification of the return or destruction of APO materials or conversion to judicial protective order is hereby requested. Failure to comply with the regulations and terms of an APO is a sanctionable violation.

These amended final results and notice are issued and published in accordance with sections 751(h), and 777(i)(1) of the Act, and 19 CFR 351.224(e).

Dated: February 10, 2017.
Ronald K. Lorentzen,
Acting Assistant Secretary for Enforcement and Compliance.

[FR Doc. 2017-03205 Filed 2-16-17; 8:45 am]

BILLING CODE 3510-DS-P